DEPARTMENT OF HOUSING AND URBAN DEVELOPMENT

[Docket No. FR-5921-N-17]

Implementation of the Privacy Act of 1974, as Amended; Notice Amendment for Computerized Homes Underwriting Management System/Loan Application Management System

AGENCY: Office of Housing, HUD.

ACTION: Notice Amendment.

SUMMARY: The Department is publishing a notice advising of a system of records amendment for system of records: Computerized Homes Underwriting Management System—Development of New System of Records, Loan Application Management System, published in the Federal Register on October 20, 2014 at 79 FR 62656-62658. The Department discovered that information under the original notice had been omitted and reissues this notice to incorporate omitted information. In addition, the revised notice introduces a new method used by the system to collect and process new records and establishes new routine use instances. This notice adds back to the notice previously omitted information maintained by the systems on non-borrowing spouses, incorporates new records pertaining to housing counselor efforts, establishes new routine uses, and refines current record keeping procedures, the authority, and purpose statements. A detailed description of the systems updates and the new functions are contained in the SUPPLEMENTARY INFORMATION section.

FOR FURTHER INFORMATION CONTACT: Helen Goff Foster, Chief Privacy Officer/Senior Agency Official for Privacy, 451 Seventh Street SW., Room 10139, Washington, DC 20410, telephone number 202-402-6836 (this is not a toll-free number). Individuals who are hearing- and speech-impaired may access this number via TTY by calling the Federal Relay Service at 800-877-8339 (this is a toll-free number).

SUPPLEMENTARY INFORMATION: Amendments to this notice: HUD published in the Federal Register system of records notice for Computerized Homes Underwriting Management System—Development of New System of Records, Loan Application Management System on October 20, 2014, at 79 FR 62656-62658, and amendments are being proposed to this notice, as follows:

Page 62657, in the first column, under the system of records caption “CATEGORIES OF INDIVIDUALS COVERED BY THE SYSTEM” this section is being updated to read: Individuals who have applied for a mortgage insured under HUD/Federal Housing Administration's single-family mortgage insurance programs, including any non-borrowing spouse(s) associated with a Home Equity Conversion Mortgage (HECM) transaction. Also, HUD business partners (appraisers, inspectors, mortgagee staff underwriters) and HUD employees (appraisers, mortgage credit examiners, architectural employees, receiving clerks, assignment clerks, commitment clerks, records clerks, and closing clerks) involved in the HUD/FHA single-family underwriting process, and new records on individuals who pass the HUD Certified Housing Counselor examination whether or not they become certified; individuals seeking HUD certified housing of new records.

Page 62657, in the first column, under the system of records captions “CATEGORIES OF RECORDS IN THE SYSTEM” this section is being updated to read: Automated files contain the following categories of records:

• Mortgagors (Borrowers): name, address, Social Security number (SSN) or other identification number, racial/ethnic background (if disclosed), date of birth, credit scores (often referred to as FICO® Scores), marital status, and details about the mortgage loan, including loan application documentation. This information is supplied by lenders during the mortgage application and underwriting process.

• Non-Borrowing Spouses: name, SSN or other identification number, date of birth, and details about the mortgage loan, including loan application documentation. This information is supplied by lenders during the mortgage application and underwriting process on specific loan types to acknowledge in writing that the non-borrowing spouse has protections under the law to remain in the home after the death of their borrowing spouse or an indication that the non-borrowing spouse is not a borrower and not required to sign the loan contract and the property does not serve as their primary residence.

• Appraisers and Inspectors: name, address, SSN or other identification number, territory, workload, and minority data including racial/ethnic background, Minority Business Enterprise (MBE) Code, and sex, for statistical tracking purposes. Mortgagee (Lender) Staff Appraisers and Underwriters, 203k Consultants, and HECM Counselors: SSN or other identification number, territory and workload of the individuals.

• HUD Employees: name and SSN or other identifying number of employees involved in the single family underwriting process. This includes, but is not limited to: Homeownership Center managers, staff appraisers, architectural employees, receiving clerks, assignment clerks, commitment clerks, records clerks, and closing clerks.

• Individuals registering to access the HUD Housing Counselor Certification Examination: legal first and last name, mailing address, telephone number, email address, fax number (if applicable), SSN, and employer's HUD Housing Counseling System (HCS) number (if registrant's employer is a housing counseling agency participating in HUD's Housing Counseling Program). Registrants have the option of providing demographic information: race, ethnicity, gender and languages in which counseling services are offered. HUD is collecting information on languages to assess the number of examinees that might benefit from certification examination training materials being available in other languages. Information for fee payment will be collected by a third party vendor and will include credit card number, expiration date, and security code.

• Individuals registering for HUD Certified Housing Counselor status or for Agency Application Coordinator for FHA Connection: legal first and last name, mailing address, telephone number, email address, fax number (if applicable), SSN, HUD Housing Counselor Certification System ID number, mother's maiden name, and employer's HUD Housing Counseling System (HCS) ID number, and verification of employing agency's name.

• Examination Information: scores from housing counselor certification examination list of all test-takers who pass the certification examination.

• Client Certificate of Housing Counseling: legal first and last name and address of the housing counseling client receiving counseling services from an agency participating in HUD's Housing Counseling Program; legal first and last name and the Counselor ID number of the counselor completing the client certificate of housing counseling; name, address, telephone number, Employer Identification Number (EIN), and HCS ID number of the agency participating in HUD's Housing Counseling Program; date and type of counseling service received; fees collected or waived; and whether counseling or education occurred in-person or remotely (telephone or Internet).

• NOTE: Certain records contained in this system which pertain to individuals contain principally proprietary information concerning sole proprietorships that may also reflect personal information, however, only the records reflecting personal information are subject to the Privacy Act.

Page 62658, in the second column, under the system of records caption “RETENTION AND DISPOSAL” this section is being amended to read: Current Procedures: Data is retained online for 13 months after the date of endorsement, or 13-18 months for non-endorsed cases, and then archived. The archived data can be retrieved upon request. In archive data, CHUMS retains case data indefinitely. The Records Retention Schedule for CHUMS/F17 is listed in the HUD Records Disposition Schedules Handbook (2225.6) Appendix A—Single Family Home Mortgage Insurance Program Records. In addition, processes are being put in place to align all practices where information will be retained and disposed of in accordance with HUD Records Disposition Schedule Handbook (2225.6), which has been approved by the National Archives and Records Administration. According to Records Management Office and Schedule 20 of HUD's Record Retention Schedule, the requirement is to retain for 6 years after the term of the loan. In some cases, this may be up to 36 years, at which time the information should be transferred to NARA. The transfer of the data would eliminate the concern of not having access to the information if needed in the future.

According to GRS 1.2 DAA-GRS-2013-0008-0001, records collected and stored for HUD Certified Housing Counselor Certification and/or Client Housing Counseling Certificates that reside in the systems will be kept for a minimum 10 years after the final action is taken on the file, document, and/or transaction. Longer retention is authorized if required for business use (Reference: GRS 1.2 DAA-GRS-2013-0008-0001).

After the record retention requirements have been met (a minimum of 10 years), the data and records can be purged or deleted from the system. If paper records are generated from the system, they can be archived at the local Federal Records Center after the final action or transaction has taken place.

Page 62658, in the first column is being updated to identify new disclosure requirements related to Federal Housing Administration's Office of Housing, by adding routine use (7) to clarify that records from this SORN may be disclosed to Government Sponsored Enterprises and other authorized entities to enhance HUD's programs operations and performance through automated underwriting, credit scoring, and risk management, and records related to counseling certification requirements, by adding routine use (11) to clarify that records will be disclosed from the system to third party fee collection service for payment of examination fees, and routine use (11) to clarify that non-PII records will be made available to the general public from the system.

Pursuant to the Privacy Act and the Office of Management and Budget (OMB) guidelines, the amended notices meets threshold requirements for having to transmit a report to OMB, the Senate Committee on Homeland Security and Governmental Affairs, and the House Committee on Oversight and Government Reform, as instructed by paragraph 4c of Appendix l to OMB Circular No. A-130, “Federal Agencies Responsibilities for Maintaining Records About Individuals,” November 28, 2000.

Authority: 5 U.S.C. 552a; 88 Stat. 1896; 42 U.S.C. 3535(d).

Dated: October 12, 2016.
Helen Goff Foster,
Chief Privacy Officer/Senior Agency Official for Privacy.

SYSTEM OF RECORDS NO:

HSNG.SF/HUP.02.

SYSTEM NAMES:

Computerized Homes Underwriting Management System (CHUMS) F17/Loan Application Management System (LAMS) P292)).

SYSTEM LOCATION:

The CHUMS and LAMS system is hosted at the Hewlett Packard (HP) Facility at 2020 Union Carbide Drive, South Charleston, West Virginia 25303-2734. HP is the designated records management facility for LAMS and the Atlanta Federal Records Center at 4712 Southpark Boulevard, Ellenwood, GA 30294 is the records management facility for CHUMS until LAMS is fully implemented. Additionally, staff in HUD Headquarters and throughout the country access CHUMS and LAMS through HUD's standard telecommunications network from desktop work stations, and access by both HUD employees and business partners is granted via secure HTTP through the HUD FHA Connection portal. Internal and external HUD hosted locations are as follows: HUD headquarters building, 451 Seventh Street, SW., Washington, DC 20410; the HUD owned and operated Home Ownership Centers, located in Atlanta, GA; Denver, CO; Philadelphia, PA; and Santa Ana, CA; and the sixty-one (61) HUD owned and operated Field Offices ¹ in various locations across the country.

¹ http://portal.hud.gov/hudportal/documents/huddoc?id=append2.pdf.

CATEGORIES OF INDIVIDUALS COVERED BY THE SYSTEM:

Individuals who have applied for a mortgage insured under HUD/FHA's single-family mortgage insurance programs, including any non-borrowing spouses associated with the transaction. Also, HUD business partners (appraisers, inspectors, mortgagee staff underwriters), HUD employees (appraisers, mortgage credit examiners, architectural employees, receiving clerks, assignment clerks, commitment clerks, records clerks, and closing clerks) involved in the HUD/FHA single-family underwriting process; individuals who pass the HUD Certified Housing Counselor examination whether or not they become certified, individuals seeking HUD certified housing counselor certification, or housing counseling clients receiving housing counseling from an agency participating in HUD's Housing Counseling Program.

CATEGORIES OF RECORDS IN THE SYSTEM:

Automated files contain the following categories of records:

• Mortgagors (Borrowers): name, address, Social Security number (SSN) or other identification number, racial/ethnic background (if disclosed), date of birth, credit scores (often referred to as FICO® Scores), marital status, and details about the mortgage loan, including loan application documentation. This information is supplied by lenders during the mortgage application and underwriting process.

• Non-Borrowing Spouses: name, SSN or other identification number, date of birth, and details about the mortgage loan, including loan application documentation. This information is supplied by lenders during the mortgage application and underwriting process on specific loan types to acknowledge in writing that the non-borrowing spouse has protections under the law to remain in the home after the death of their borrowing spouse or an indication that the non-borrowing spouse is not a borrower and not required to sign the loan contract and the property does not serve as their primary residence.

• Appraisers and Inspectors: name, address, SSN or other identification number, territory, workload, and minority data including racial/ethnic background, minority business enterprise (MBE) Code, and sex, for statistical tracking purposes.

• Mortgagee (Lender) Staff Appraisers and Underwriters: SSN or other identification number, territory and workload of the individuals.

• HUD Employees: name, SSN or other identifying number of employees involved in the single family underwriting process. This includes, but is not limited to: Homeownership Center managers, staff appraisers, architectural employees, receiving clerks, assignment clerks, commitment clerks, records clerks, and closing clerks.

• Individuals registering to access the HUD Housing Counselor Certification Examination: Legal first and last name, mailing address, telephone number, email address, fax number (if applicable), SSN, and employer's HUD Housing Counseling System (HCS) number (if registrant's employer is a housing counseling agency participating in HUD's Housing Counseling Program). Registrants have the option of providing demographic information: Race, ethnicity, gender and languages in which counseling services are offered. HUD is collecting information on languages to assess the number of examinees that might benefit from certification examination training materials being available in other languages. Information for fee payment will be collected by a third party vendor and will include credit card number, expiration date, and security code.

• Individuals registering for HUD Certified Housing Counselor status or for Agency Application Coordinator for FHA Connection: Legal first and last name, mailing address, telephone number, email address, fax number (if applicable), SSN, HUD Housing Counselor Certification System ID number, mother's maiden name, and employer's HUD Housing Counseling System (HCS) ID number, and verification of employing agency's name.

• Examination Information: Scores from housing counselor certification examination list of all test-takers who pass the certification examination.

• Client Certificate of Housing Counseling: Legal first and last name and address of the housing counseling client receiving counseling services from an agency participating in HUD's Housing Counseling Program, legal first and last name and the Counselor ID number of the counselor completing the client certificate of housing counseling, name, address, telephone number, Employer Identification Number (EIN), and HCS ID number of the agency participating in HUD's Housing Counseling Program, date and type of counseling service received, fees collected or waived and whether counseling or education occurred in-person or remotely (telephone or Internet).

Note: Certain records contained in this system which pertain to individuals contain principally proprietary information concerning sole proprietorships may also reflect personal information, however, only the records reflecting personal information are subject to the Privacy Act.

AUTHORITY FOR MAINTENANCE OF THE SYSTEM:

Section 203, National Housing Act, Public Law 73-479, enables HUD/FHA to process applications for HUD mortgage insurance and respond to inquiries regarding applications and insured mortgages; The Housing and Community Development Act of 1987, 42 U.S.C. 3543, authorizes HUD to collect SSNs Social Security numbers for FHA Connect users are collected to ensure mortgagee eligibility requirements are met, 12 U.S.C. § 1708(d)); Subtitle D of title XIV of the Dodd-Frank Wall Street Reform and Consumer Protection Act, Public Law 111-203, 124 Stat. 1376 (July 21, 2010); Section 106 of the Housing and Urban Development Act of 1968, 12 U.S.C. 1701x.

PURPOSE(S):

The Loan Application Management System (LAMS) is developed to better assist FHA with its automated processing, analysis, and screening of the appraisal documentation. CHUMS is developed to support lenders and HUD staff in the processing of insurance applications for single-family mortgages, from the initial loan application all the way through endorsement. Various mortgage loan types are processed through CHUMS, including loans for First Time Homebuyers, Home Equity Conversion Mortgages (HECM), Section 184 Indian Home Loan Guarantee, and 203K rehabilitation loans. CHUMS provides HUD field office staff functionality for tracking and processing cases, and allows monitoring of workloads by field office management. CHUMS also contains the FHA TOTAL (Technology Open to Approved Lenders) Scorecard, which evaluates the overall creditworthiness of mortgage loan applications submitted through Automated Underwriting Systems based on a number of credit variables, and determines the associated level of risk for loans submitted for FHA insurance.

The new LAMS tool is being created to become the eventual replacement system for CHUMS. The existing functionality in CHUMS will be moved into LAMS in stages over the next five years. In its initial release, LAMS will enable HUD to start collecting case binder data into an industry-wide electronic format that is acceptable to Mortgage Industry Standard Maintenance Organization (MISMO) data standards. The improved enhancements will allow HUD to screen out errors in the appraisal and endorsement process more proficiently. In the past, HUD has identified far too late in the appraisal and endorsement process when a loan was at risk or in danger of fraud. Implementing the new LAMS tool and new evaluation process will allow HUD to better evaluate errors in the appraisal and endorsement process, and avoid endorsing unqualified loans. FHA believes that having the mortgage insurance documentation evaluated earlier on in the process will over time have a tremendous impact on the performance of HUD's mortgage insurance programs. The existing HUD data collected on applications for single-family mortgage insurance endorsements, includes electronic copies of mortgage documentation, along with the results of automated risk scoring and fraud validations, electronic copies of the lender submitted mortgage insurance appraisal records, the underlying data and metadata of documentation obtained in the application, underwriting, insuring and closing stages of the mortgage loan transaction will be used for risk management evaluation studies of the abovementioned mortgage insurance portfolios. The purpose for collecting the new records that will be maintained by this system is to verify the participating agency's compliance with HUD's Housing Counseling Program requirements. Other statutory changes to improve the effectiveness of housing counseling include increasing the breadth of counseling services so that they are comprehensive with respect to homeownership and rental counseling and issuing client Certificates of Housing Counseling to verify counseling requirements for FHA and other Federal, State, and local programs, as applicable. HUD's Housing Counseling Program currently provides comprehensive homeownership and rental counseling. As noted in the proposed rule published on September 13, 2013, an individual counselor, in contrast to multiple counseling agencies, will have to show competency (through passage of an examination) in identifying and understanding the breadth of homeownership and rental counseling services. Currently, a potential homebuyer or homeowner is likely to seek a housing counseling agency that specializes in a specific area and receive comprehensive counseling by a counselor in that specific area. As a result of increasing the breadth of counseling service knowledge, a housing counselor providing counseling on a specific area requested by the client would also be trained to identify cross-cutting issues that a client may not have identified when seeking out a specific counselor or during the intake process by the housing counseling agency. In addition, certifying individual counselors may further enhance the high regard of agencies and counselors participating in HUD's Housing Counseling Program.

ROUTINE USES OF RECORDS MAINTAINED IN THE SYSTEM, INCLUDING CATEGORIES OF USERS AND THE PURPOSES OF SUCH USES:

In addition to those disclosures generally permitted under 5 U.S.C. Section 552a (b) of the Privacy Act, all or a portion of the records or information contained in this system may be disclosed outside HUD as a routine use pursuant to 5 U.S.C. 552a (b) (3) as follows:

1. To appropriate agencies, entities, and persons to the extent such disclosures are compatible with the purpose for which the records in this system were collected, as set forth by Appendix I—HUD's Routine Use Inventory Notice,² published in the Federal Register.

² http://portal.hud.gov/hudportal/documents/huddoc?id=routine_use_inventory.pdf.

2. To appropriate agencies, entities, and persons when:

a. HUD suspects or has confirmed that the security or confidentiality of information in a system of records has been compromised;

b. HUD has determined that as a result of the suspected or confirmed compromise there is a risk of harm to economic or property interests, identity theft or fraud, or harm to the security or integrity of systems or programs (whether maintained by HUD or another agency or entity) that rely upon the compromised information;

c. HUD determines that the disclosure made to such agencies, entities, and persons is reasonably necessary to assist in connection with HUD's efforts to respond to the suspected or confirmed compromise of security.

3. To a congressional office from the record of an individual in response to an inquiry from that congressional office made at the request of the individual to whom the record pertains.

4. To the Federal Bureau of Investigations for investigations of possible fraud revealed in FHA underwriting, insuring or monitoring process for mortgage insurance.

5. To the Department of Justice for prosecutions of fraud revealed in FHA underwriting, insuring or monitoring process for mortgage insurance.

6. To the General Accounting Office (GAO) for audit purposes.

7. To financial institutions (including Government Sponsored Enterprises), computer software companies and other Federal agencies (including the Federal Reserve) to enhance program operations and performance through automated underwriting, credit scoring and risk management.

8. To other federal agencies (including the Federal Reserve) for purposes of research not involving personally identifiable information, to evaluate program effectiveness in meeting HUD's/FHA's mission, or to inform policy makers on changes to effect program improvements.

9. To the Department's Office of Policy Development Research and its researchers for mortgage credit evaluations and statistical analysis.

10. To contractors, grantees, experts, consultants, and the agents thereof, and others performing or working on a contract, service, grant, cooperative agreement with HUD, when necessary to accomplish an agency function related to these system of records, limited to only those data elements considered relevant to accomplishing an agency function. Individuals provided information under this routine use is subject to the same Privacy Act requirements and limitations on disclosure as are applicable to HUD officers and employees. To contractors, experts, consultants with whom HUD has a contract, service agreement or other assignment of the Department, when necessary to utilize relevant data for purposes of testing new technology and systems designed to enhance program operations and performance.

11. To third party fee collection service when needed for payment of certified housing counselor examination fees. Only legal name, address for credit card billing, and telephone number will be released.

12. To the general public to verify if a certified housing counselor identification number is valid. Only certified housing counselor first and last name and housing counseling agency(ies) that employ this counselor will be released under this be routine use for valid certified housing counselor identification numbers. The information will be released to any interested person only through a specific Web page on either www.hud.gov or the HUD Exchange designated by HUD.

POLICIES AND PRACTICES FOR STORING, RETRIEVING, ACCESSING, RETAINING, AND DISPOSING OF RECORDS IN THE SYSTEM:

STORAGE:

Records in this system are stored on magnetic tape/disc/drum. If paper records are generated, they will be stored from unauthorized use and stored at the Federal Records facility.

RETRIEVABILITY:

Electronic/paper records are retrieved by case number, name, social security number housing counselor ID number, or other identification number. Office of Housing Counseling Staff will be able to retrieve counselor employment history for specific time periods. The general public will be able to verify if a counselor is currently certified by HUD through a public access Web page on HUD.gov or HUD Exchange. The public search will identify the name of the housing counselor and agency(ies) the counselor is employed by. Full access to HUD Certified Housing Counselor Database information in CHUMS will be limited to a few individuals on an as-needed basis for compliance purposes.

SAFEGUARDS:

Electronic records are maintained in secure areas, and access is limited to authorized personnel.

RETENTION AND DISPOSAL:

Current Procedures: Data is retained online for 13 months after the date of endorsement, or 13-18 months for non-endorsed cases, and then archived. The archived data can be retrieved upon request. In archive data, CHUMS retains case data indefinitely. The Records Retention Schedule for CHUMS/F17 is listed in the HUD Records Disposition Schedules Handbook (2225.6), Schedule 20,³ and Single Family Home Mortgage Insurance Program Records.

³ http://portal.hud.gov/hudportal/documents/huddoc?id=22256x20admh-1.pdf.

FUTURE PROCEDURES:

Processes are being put in place to align all practices where information will be retained, archived, then destroyed in accordance with HUD approved Records Disposition Schedule Handbook (2225.6), Schedule 20. According to Records Management Office and Schedule 20 of HUD's Record Retention Schedule, records will be retained, archived, and destroyed a minimum of 6 years after the term of the mortgage. In some cases, this may be up to 36 years, at which time the information should be transferred to NARA. The transfer of the data would eliminate the concern of not having access to the information if needed in the future. The records collected and stored for HUD Certified Housing Counselor Certification and/or Client Housing Counseling Certificates that reside in the systems will be kept for a minimum 10 years after the final action is taken on the file, document, and/or transaction. Longer retention is authorized if required for business use (Reference: GRS 1.2 DAA-GRS-2013-0008-0001). After the record retention requirements have been met (a minimum of 10 years), the data and records can be purged or deleted from the system. Backup and Recovery digital media will be destroyed or otherwise rendered irrecoverable per NIST SP 800-88 “Guidelines for Media Sanitization” (September 2006). This complies with all Federal regulations.

SYSTEM MANAGER(S) AND ADDRESS:

Director, Office of Single Family Program Development, Department of Housing and Urban Development, 451 Seventh Street SW., Washington, DC 20410.

NOTIFICATION AND RECORD ACCESS PROCEDURES:

For Information, assistance, or inquiries about the existence of records, contact Helen Goff Foster, Chief Privacy Officer/Senior Agency Official for Privacy, 451 Seventh Street SW., Room 10139, Washington, DC 20410, telephone number 202-402-6836 (this is not a toll-free number). When seeking records about yourself from this system of records or any other HUD system of records, your request must conform with the Privacy Act regulations set forth in 24 CFR part 16 “Procedures for Inquiries”. You must first verify your identity by providing your full name, current address, and date and place of birth. You must sign your request, and your signature must either be notarized or submitted under 28 U.S.C. 1746, a law that permits statements to be made under penalty of perjury as a substitute for notarization. In addition, your request should:

(1) Explain why you believe HUD would have information on you.

(2) Identify which HUD office you believe has the records about you.

(3) Specify when you believe the records would have been created.

(4) Provide any other information that will help the FOIA staff determine which HUD office may have responsive records.

If you are seeking records pertaining to another living individual, you must obtain a statement from that individual certifying their agreement for you to access their records. Without the above information, the HUD Office may not be able to conduct an effective search, and your request may be denied due to lack of specificity or lack of compliance with applicable regulations.

CONTESTING RECORD PROCEDURES:

The Department's rules for contesting contents of records and appealing initial denials appear in 24 CFR part 16, “Procedures for Inquiries.” Additional assistance may be obtained by contacting Helen Goff Foster, Chief Privacy Officer/Senior Agency Official for Privacy, 451 Seventh Street SW., Room 10139, Washington, DC 20410, or the HUD Departmental Privacy Appeals Officer, Office of General Counsel, Department of Housing and Urban Development, 451 Seventh Street SW., Room 10110, Washington, DC 20410.

RECORD SOURCE CATEGORIES:

Records in the system are obtained from: Mortgagors, appraisers, inspectors, mortgagee staff appraisers, mortgagee staff underwriters, housing counselors, individuals that pass the HUD Certified Housing Counselor examination, HUD Housing Counseling Program clients that receive education and counseling from a HUD participating housing counseling agency, and HUD employees.

SYSTEMS EXEMPTED FROM CERTAIN PROVISIONS OF THE ACT:

None.

[FR Doc. 2016-25177 Filed 10-17-16; 8:45 am]

BILLING CODE 4210-67-P